DEPARTMENT OF AGRICULTURE

Forest Service

Lake Tahoe Basin Federal Advisory Committee

AGENCY: Forest Service, USDA.

ACTION: Notice of meeting.

SUMMARY: The Lake Tahoe Basin Federal Advisory Committee will hold a meeting on June 13, 2002, at the Convention Center, Horizon Casino and Resort, Highway 50, Stateline, NV. This Committee, established by the Secretary of Agriculture on December 15, 1998, (64 FR 2876) is chartered to provide advice to the Secretary on implementing the terms of the Federal Interagency Partnership on the Lake Tahoe Region and other matters raised by the Secretary.

DATES: The meeting will be held June 13, 2002, beginning at 9:00 a.m. and ending at 4:30 p.m.

ADDRESSES: The meeting will be held at the Convention Center, Horizon Casino and Resort, Highway 50, Stateline NV.

FOR FURTHER INFORMATION CONTACT: Maribeth Gustafson or Jeannie Stafford, Lake Tahoe Basin Management Unit, Forest Service, 870 Emerald Bay Road Suite 1, South Lake Tahoe, CA 96150, (530) 573-2642.

SUPPLEMENTARY INFORMATION: The committee will meet jointly with the Lake Tahoe Federal Interagency Partnership. Items to be covered on the agenda include: Lands and Budget Subcommittee reports, the Federal Partnership perspective the Partnership, Lake Tahoe August Congressional Event, update on the USFS Lake Tahoe Restoration Act projected list, USACE update on Lade Tahoe projects, the status of Lake Tahoe atmospheric deposition, and public comment. All Lake Tahoe Basin Federal Advisory Committee meetings are open to the public. Interested citizens are encouraged to attend. Issues may be brought to the attention of the Committee during the open public comment period at the meeting or by filing written statements with the secretary for the Committee before or after the meeting. Please refer any written comments to the Lake Tahoe Basin Management Unit at the contact address stated above.

Dated: May 13, 2002.
Maribeth Gustafson,
Forest Supervisor.

[FR Doc. 02-12701 Filed 5-20-02; 8:45 am]

BILLING CODE 3410-11-M